FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Complex Institution Liquidity Monitoring Report (FR 2052a; OMB No. 7100-0361). The revisions are applicable as of March 31, 2019.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

Office of Management and Budget (OMB) Desk Officer—Shagufta Ahmed—Office of Information and Regulatory Affairs, Office of Management and Budget, New Executive Office Building, Room 10235, 725 17th Street NW, Washington, DC 20503, or by fax to (202) 395-6974.

SUPPLEMENTARY INFORMATION: On June 15, 1984, the Office of Management and Budget (OMB) delegated to the Board authority under the Paperwork Reduction Act (PRA) to approve and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

Final approval under OMB delegated authority of the extension for three years, with revision, of the following information collection:

Report title: Complex Institution Liquidity Monitoring Report.

Agency form number: FR 2052a.

OMB control number: 7100-0361.

Effective date: March 31, 2019.

Frequency: Monthly, or each business day (daily).

Respondents: Certain U.S. bank holding companies (BHCs), U.S. savings and loan holding companies (SLHCs), and foreign banking organizations (FBOs) with U.S. assets.

Estimated number of respondents: Monthly, 40; daily, 12.

Estimated average hours per response: Monthly, 120 hours; daily, 220 hours.

Estimated annual burden hours: 717,600 hours.

General description of report: The FR 2052a is filed by U.S. BHCs and SLHCs that are subject to the Liquidity Coverage Ratio rule (LCR rule) as a “covered depository institution holding company,” as defined in section 249.3 of the Board's Regulation WW (12 CFR 249.3) (collectively, U.S. firms),¹ with total consolidated assets of $50 billion or more and FBOs, as defined by section 211.21(o) of the Board's Regulation K and including any U.S. bank holding company that is a subsidiary of an FBO, with combined U.S. assets of $50 billion or more.² Reporting frequency is based on the asset size of the firm and whether it has been identified as a firm supervised through the Large Institution Supervision Coordinating Committee of the Board. The FR 2052a is used to monitor the overall liquidity profile of certain institutions supervised by the Board. These data provide detailed information on the liquidity risks within different business lines (e.g., financing of securities positions, prime brokerage activities). In particular, these data serve as part of the Board's supervisory surveillance program in its liquidity risk management area and provide timely information on firm-specific liquidity risks during periods of stress. Analyses of systemic and idiosyncratic liquidity risk issues are then used to inform the Board's supervisory processes, including the preparation of analytical reports that detail funding vulnerabilities.

¹ BHCs that are subsidiaries of an FBO are excluded from the definition of “U.S firm.”

² The Board has stated that it will not take action to require bank holding companies or savings and loan holding companies with less than $100 billion in total consolidated assets to comply with certain existing regulatory requirements, including the requirements to report the 2052a. See Statement regarding the impact of the Economic Growth, Regulatory Relief, and Consumer Protection Act (July 6, 2018), available at https://www.federalreserve.gov/newsevents/pressreleases/files/bcreg20180706b1.pdf. Subsequently, the Board invited comment on a proposal that would more closely match the regulations for large banking organizations with their risk profiles, which included proposals that would affect the scope of application of the FR 2052a. The press release is available at https://www.federalreserve.gov/newsevents/pressreleases/bcreg20181031a.htm.

Legal authorization and confidentiality: The FR 2052a report is authorized to be collected from BHCs pursuant to section 5(c) of the Bank Holding Company Act (BHC Act), 12 U.S.C. 1844(c); from FBOs pursuant to section 8(a) of the International Banking Act, 12 U.S.C. 3106(a); from certain BHCs and FBOs pursuant to section 165 of the Dodd-Frank Wall Street Reform and Consumer Protection Act (Dodd-Frank Act), 12 U.S.C. 5365; and from SLHCs pursuant to section 10(b)(2) and (g) of the Home Owners' Loan Act (HOLA), 12 U.S.C. 1467a(b)(2) and (g). Section 5(c) of the BHC Act authorizes the Board to require BHCs to submit reports to the Board regarding their financial condition, and section 8(a) of the International Banking Act subjects FBOs to the provisions of the BHC Act. Section 165 of the Dodd-Frank Act requires the Board to establish prudential standards, including liquidity requirements, for certain BHCs and FBOs. Section 10(g) of HOLA authorizes the Board to collect reports from SLHCs. The FR 2052a report is mandatory for covered institutions.

The information required to be provided on the FR 2052a is collected as part of the Board's supervisory process. Accordingly, such information is afforded confidential treatment under exemption 8 of the Freedom of Information Act (FOIA), which protects information from disclosure that is contained in or related to the examination or supervision of a financial institution. 5 U.S.C. 552(b)(8). In addition, the information may also be kept confidential under exemption 4 of the FOIA, which protects trade secrets or confidential commercial or financial information. 5 U.S.C. 552(b)(4). In limited circumstances, aggregate data for multiple respondents, which does not reveal the identity of any individual respondent, may be released.

Current actions: On December 28, 2019, the Board published a notice in the Federal Register (83 FR 67285) requesting public comment for 60 days on the extension, with revision, of the FR 2052a. On September 12, 2018, the Board temporarily approved ³ certain revisions to the FR 2052a relating to the Economic Growth, Regulatory Relief, and Consumer Protection Act and the Board's related interim final rule amending the treatment of certain municipal obligations that are liquid and readily marketable as high quality liquid assets (HQLAs) under the LCR rule.⁴ Specifically, the Board amended the Assets Category Table in Appendix III of the FR 2052a such that the description of the asset classification code “IG2-Q” is sufficiently inclusive of municipal obligations that may qualify as HQLAs under the LCR rule. The comment period for this notice expired on February 26, 2019. The Board did not receive any comments. The revisions will be implemented as proposed. Board of Governors of the Federal Reserve System, March 22, 2019.

³ See 83 FR 46163 (September 12, 2018).

⁴ See 83 FR 44451 (August 31, 2018).

Michele Taylor Fennell,
Assistant Secretary of the Board.

[FR Doc. 2019-05841 Filed 3-26-19; 8:45 am]

BILLING CODE P